ENVIRONMENTAL PROTECTION AGENCY

[EPA-HQ-OPPT-2017-0631; FRL-9256-01-OCSPP]

Agency Information Collection Activities; Proposed Renewal of an Existing Collection and Request for Comment; Residential Lead-Based Paint Hazards Disclosure Requirements

AGENCY: Environmental Protection Agency (EPA).

ACTION: Notice.

SUMMARY: In compliance with the Paperwork Reduction Act (PRA), this document announces the availability of and solicits public comment on an Information Collection Request (ICR) that EPA is planning to submit to the Office of Management and Budget (OMB). The ICR, entitled: “Residential Lead-Based Paint Hazards Disclosure Requirements” EPA ICR No. 1710.09 and OMB Control No. 2070-0151, represents the renewal of an existing ICR that is scheduled to expire on November 30, 2022. Before submitting the ICR to OMB for review and approval under the PRA, EPA is soliciting comments on specific aspects of the proposed information collection summarized in this document. The ICR and accompanying material are available in the docket for public review and comment.

DATES: Comments must be received on or before May 2, 2022.

ADDRESSES: Submit your comments, identified by docket identification (ID) number EPA-HQ-OPPT-2017-0631, using the Federal eRulemaking Portal at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA Docket Center (EPA/DC) is open to visitors by appointment only. For the latest status information on EPA/DC and docket access, visit https://www.epa.gov/dockets.

FOR FURTHER INFORMATION CONTACT: Katherine Sleasman (7101M), Office of Program Support, Environmental Protection Agency, 1200 Pennsylvania Ave. NW, Washington, DC 20460-0001; telephone number: (202) 420-0580; email address: sleasman.katherine@epa.gov.

For general information contact: The TSCA-Hotline, ABVI-Goodwill, 422 South Clinton Ave., Rochester, NY 14620; telephone number: (202) 554-1404; email address: TSCA-Hotline@epa.gov.

SUPPLEMENTARY INFORMATION:

I. What information is EPA particularly interested in?

Pursuant to PRA section 3506(c)(2)(A), 44 U.S.C. 3506(c)(2)(A), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Residential Lead-Based Paint Hazards Disclosure Requirements.

ICR numbers: EPA ICR No. 1710.09; OMB Control No. 2070-0151.

ICR status: The existing ICR is currently scheduled to expire on November 30, 2022. An Agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR covers the information collection activities associated with the reporting and recordkeeping requirements for sellers, lessors, and their agents' disclosure activities in target housing including the allowance of up to ten days for an optional risk assessment or inspection before being obligated under a purchase or lease contract.

The ICR supporting statement, which is available in the docket along with other related materials, provides a detailed explanation of the collection activities and the burden estimate that is only briefly summarized in this document.

Burden statement: The annual public reporting and recordkeeping burden for this collection of information is estimated to average 0.12 hours per response.

Respondents/Affected Entities: Persons engaged in selling or leasing certain residential dwellings built before 1978. The North American Industrial Classification System (NAICS) codes associated with industries most likely affected by the paperwork requirements are provided in the ICR.

Respondent's obligation to respond: Mandatory (40 CFR part 745).

Estimated total number of potential respondents: 16,793,558.

Frequency of response: On occasion.

Estimated total annual burden hours: 5,481,069 hours.

Estimated total annual costs: $133,320,708, which includes an estimated cost of $0 for capital investment or maintenance and operational costs.

III. Are there changes in the estimates from the last approval?

There is a decrease of 471,275 hours in the total estimated respondent burden compared with that identified in the ICR currently approved by OMB. As explained in more detail in the ICR, this decrease reflects revisions to the estimated number of respondents based on updates to data sources, revisions to time burden estimates due to technological change (e.g., widespread use of electronic real estate transacting and documentation), and revisions based on market factors (e.g., declines in the numbers of rentals and declines in the amount of owner-occupied target housing in the market). EPA is also revising the seller's and lessor's disclosure of information sample forms to provide greater clarity on how to fill out the forms under 40 CFR part 745, subpart F and 24 CFR part 35, subpart A. EPA appreciates comments regarding these clarifying revisions to the sample forms.

In addition, OMB has requested that EPA move towards using the 18-question format for ICR Supporting Statements used by other federal agencies and departments and that is based on the submission instructions established by OMB in 1995, replacing the alternate format developed by EPA and OMB prior to 1995. The Agency does not expect this change in format to result in substantive changes to the information collection activities or related estimated burden and costs.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: February 23, 2022.
Michal Freedhoff,
Assistant Administrator, Office of Chemical Safety and Pollution Prevention.

[FR Doc. 2022-04233 Filed 2-28-22; 8:45 am]

BILLING CODE 6560-50-P